DEPARTMENT OF HOUSING AND URBAN DEVELOPMENT

[Docket No. FR-7062-N-10]

Privacy Act of 1974; System of Records

AGENCY: Office of the Chief Human Capital Officer, HUD.

ACTION: Notice of a new system of records.

SUMMARY: Pursuant to the provisions of the Privacy Act of 1974, as amended, the Department of the Housing and Urban Development (HUD), Office of the Chief Human Capital Officer (OCHCO) is issuing a public notice of its intent to establish a Privacy Act system of records titled “Student Loan Repayment Program. The purpose of this system of records is to allow HUD to collect and maintain records on employees and job candidates who are being considered for student loan repayment benefits under the Department's Policy 550.2 Chg. 1, Chapter 4—Pay Administration Handbook, entitled “Repayment of Student Loans,” as well as individuals who have been approved for and are receiving such benefits.

DATES: Comments will be accepted on or before August 24, 2022. This proposed action will be effective on the date following the end of the comment period unless comments are received which result in a contrary determination.

ADDRESSES: You may submit comments by one of the following methods:

Federal e-Rulemaking Portal: http://www.regulations.gov. Follow the instructions provided on that site to submit comments electronically.

Fax: 202-619-8365.

Email: www.privacy@hud.gov.

Mail: Attention: Privacy Office; LaDonne White, Chief Privacy Officer, The Executive Secretariat, 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139; Washington, DC 20410-0001; telephone number 202-708-3054 (this is not a toll-free number). Individuals who are hearing- or speech-impaired may access this telephone number via TTY by calling the Federal Relay Service at 800-877-8339 (this is a toll-free number).

SUPPLEMENTARY INFORMATION: HUD Student Loan Repayment Program (SLRP) is a popular tool used by the Department to attract or retain highly or uniquely qualified candidates into mission-critical positions and retain highly qualified employees in critical positions. If the employee is likely to leave for employment outside of the federal sector and the employee's departure would affect the agency's ability to carry out an activity or perform a function that is deemed essential to the accomplishment of a strategic goal and/or objective, the Department may agree to repay the lender (on behalf of the employee, all, or part of any outstanding federally insured student loan(s). The operation of this program is contingent upon the availability of funds.The SLRP is offered on an annual basis to all HUD employees through the Department's SharePoint site. Prior to the opening of the annual SLRP, all HUD employees are notified via email a “Save the Date” notification message; an electronic posting is uploaded on the Department's HUD@Work website and poster boards are posted throughout the building. When applying, employees are encouraged to adhere to established timelines for consideration.

SYSTEM NAME AND NUMBER:

Student Loan Repayment Program, HUD/OCHCO-02.

SECURITY CLASSIFICATION:

Unclassified.

SYSTEM LOCATION:

Records are maintained at the following locations: U.S. Department of Housing and Urban Development Headquarters location, 451 7th Street SW, Washington, DC 20410-0001.

SYSTEM MANAGER(S):

Director, Human Capital Information System Division (HCISD), Robyn R. Johnson, Office of the Chief Human Capital Officer (OCHCO), Office of 451 Seventh Street SW, Washington, DC 20410-0001.

AUTHORITY FOR MAINTENANCE OF THE SYSTEM:

The Floyd D. Spence National Defense Authorization Act of Fiscal Year 2001 (Pub. L. 106-398); 5 U.S.C. 5379, as amended, and implementing regulations at 5 CFR part 537.

PURPOSE(S) OF THE SYSTEM:

The purpose of this system is to allow HUD to collect and maintain records on employees requesting or receiving repayment on qualified student loans. Another purpose of this system is to monitor, process, track and report the processing of approved student loan benefits while ensuring compliance with applicable laws and regulations, including confidentiality requirements protecting information individuals submit in support of student loan repayment requests.

CATEGORIES OF INDIVIDUALS COVERED BY THE SYSTEM:

Current and former HUD employees.

CATEGORIES OF RECORDS IN THE SYSTEM:

Full Name, home and work addresses, home and work telephone numbers, education records, student loan applications, account numbers, loan balance, repayment schedule, repayment history, repayment status; email addresses, loan holders' name, loan holders' addresses, lender verification letters and service agreements.

RECORD SOURCE CATEGORIES:

Individuals and Loan lenders.

ROUTINE USES OF RECORDS MAINTAINED IN THE SYSTEM, INCLUDING CATEGORIES OF USERS AND PURPOSES OF SUCH USES:

1. To a congressional office from the record of an individual, in response to an inquiry from the congressional office made at the request of that individual.

2. To contractors, grantees, experts, consultants, Federal agencies, and non-Federal entities, including, but not limited to, State and local governments and other research institutions or their parties, and entities and their agents with whom HUD has a contract, service agreement, grant, cooperative agreement, or other agreement, for the purposes of statistical analysis and research in support of program operations, management, performance monitoring, evaluation, risk management, and policy development, or to otherwise support the Department's mission.

3. To contractors, grantees, experts, consultants and their agents, or others performing or working under a contract, service, grant, or cooperative agreement with HUD or under contract to another agency when necessary to accomplish an agency function related to a system of records. Disclosure requirements are limited to only those data elements considered relevant to accomplishing an agency function.

4. To appropriate agencies, entities, and persons when: (I) HUD suspects or has confirmed that there has been a breach of the system of records; (II) HUD has determined that as a result of the suspected or confirmed breach there is a risk of harm to individuals, HUD (including its information systems, programs, and operations), the Federal Government, or national security; and (III) The disclosure made to such agencies, entities, and persons is reasonably necessary to assist in connection with HUD's efforts to respond to the suspected or confirmed breach or to prevent, minimize, or remedy such harm.

5. To another Federal agency or Federal entity, when HUD determines that information from this system of records is reasonably necessary to assist the recipient agency or entity in (I) responding to a suspected or confirmed breach or (II) preventing, minimizing, or remedying the risk of harm to individuals, the recipient agency or entity (including its information systems, programs and operations), the Federal Government, or national security, resulting from a suspected or confirmed breach.

6. To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

7. To a court, magistrate, administrative tribunal, or arbitrator while presenting evidence, including disclosures to opposing counsel or witnesses in the course of civil discovery, litigation, mediation, or settlement negotiations; or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

8. To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

9. To officials of labor organizations recognized under the Civil Service Reform Act when relevant and necessary to their duties of exclusive representation concerning personnel policies, practices, and matters affecting work conditions.

10. To the Office of Personnel Management (OPM), the Merit Systems Protection Board (and its office of the Special Counsel), the Federal Labor Relations Authority (and its General Counsel), or the Equal Employment Opportunity Commission when requested in performance of their authorized duties of exclusive representation concerning personnel policies, practices, and matters affecting work conditions.

POLICIES AND PRACTICES FOR STORAGE OF RECORDS:

Electronic and Paper records.

POLICIES AND PRACTICES FOR RETRIEVAL OF RECORDS:

Full name and HUD identification number.

POLICIES AND PRACTICIES FOR RETENTION AND DISPOSAL OF RECORDS:

Destroy 3 years after date of approval, completion of service agreement, or termination of incentive or differential payment, whichever is later, but longer retention is authorized if required for business use.

ADMINISTRATIVE, TECHNICAL, AND PHYSICAL SAFEGUARDS:

For Paper Records: Comprehensive paper records are kept in locked metal file cabinets in locked rooms in HUD Headquarters, in the Office of Policy, which is the office responsible for the Student Loan Repayment Program. Access to these records is limited to only those persons who have a need for them in the performance of their official duties. All physical access to the building where the system of records is maintained is controlled and monitored by security personnel who perform security checks on a routine basis.

For Electronic Records: Comprehensive electronic records are maintained and stored in an electronic encryption database system. These records can only be access based off the user's rights and privileges to the system. Electronic records are stored on the SharePoint “online”, D110 Microsoft Office 365 Multi-Tenant Software (MS O365 MT) environment, which runs on the Department's network (HUD). This environment complies with the security and privacy controls and procedures as described in the Federal Information Security Management Act (FISMA), National Institute of Standards and Technology (NIST) Special Publications, and Federal; Information Processing Standards (FIPS). A valid HSPD-12 ID Credential, access to HUD's LAN, a valid UserID and Password and a Personalized Identification Number (PIN) is required to access the Student Loan Repayment Program. These records are restricted to only those persons with a role in the Student Loan Repayment Program, having a need to access them in the performance of their official duties.

For Electronic Records (cloud based): Comprehensive electronic records are secured and maintained on a cloud-based software server and operating system that resides in Federal Risk and Authorization Management Program (FedRAMP) and Federal Information Security Management Act (FISMA) Moderate dedicated hosting environment. All data located in the cloud-based server is firewalled and encrypted at rest and in transit. The security mechanisms for handing data at rest and in transit are in accordance with HUD encryption standards.

RECORD ACCESS PROCEDURES:

Individuals seeking notification of and access to their records in this system of records may submit a request in writing to the Department of Housing and Urban Development, Attn: FOIA Program Office, 451 7th Street SW, Suite 10139, Washington, DC 20410-0001, or by emailing foia@hud.gov. Individuals must furnish the following information for their records to be located:

1. Full name.

2. Signature.

3. The reason why the individual believes this system contains information about him/her.

4. The address to which the information should be sent.

CONTESTING RECORD PROCEDURES:

Same as the Notification Procedures below.

NOTIFICATION PROCEDURES:

Any person wanting to know whether this system of records contains information about him or her should contact the System Manager. Such person should provide his or her full name, position title and office location at the time the accommodation was requested, and a mailing address to which a response is to be sent.

EXEMPTIONS PROMULGATED FOR THE SYSTEM:

N/A.

HISTORY:

N/A.

LaDonne White,
Senior Agency Official for Privacy, Office of Chief, Human Capital Officer.

[FR Doc. 2022-15799 Filed 7-22-22; 8:45 am]

BILLING CODE 4210-67-P